DEPARTMENT OF COMMERCE

International Trade Administration

[A-552-806]

Polyethylene Retail Carrier Bags from the Socialist Republic of Vietnam: Amended Initiation of Antidumping Duty Investigation

AGENCY: Import Administration, International Trade Administration, Department of Commerce.

EFFECTIVE DATE: May 7, 2009.

FOR FURTHER INFORMATION CONTACT: Zev Primor at (202) 482-4114 or Robert Bolling at (202) 482-3434, AD/CVD Operations, Office 4, Import Administration, International Trade Administration, U.S. Department of Commerce, 14th Street and Constitution Avenue, NW, Washington, DC 20230.

SUMMARY: On April 27, 2009, the Department of Commerce (“the Department”) published in the Federal Register the notice of initiation of antidumping investigation of polyethylene retail carrier bags (“PRCBs”) from the Socialist Republic of Vietnam (“Vietnam”). See Polyethylene Retail Carrier Bags from Indonesia, Taiwan and the Socialist Republic of Vietnam: Initiation of Antidumping Duty Investigations, 74 FR 19049 (April 27, 2009) (“Initiation Notice”). We are amending the case number assigned to the antidumping investigation of PRCBs from Vietnam from A-552-804 to A-552-806.

SUPPLEMENTARY INFORMATION:

Scope of Investigation

The merchandise subject to this investigation is polyethylene retail carrier bags (“PRCBs”), which also may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants to their customers to package and carry their purchased products. The scope of this investigation excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of merchandise included within the scope of this investigation are currently classifiable under statistical category 3923.21.0085 of the Harmonized Tariff Schedule of the United States (“HTSUS”). This subheading may also cover products that are outside the scope of these investigations. Furthermore, although the HTSUS subheading is provided for convenience and customs purposes, the written description of the scope of this investigation is dispositive.

New Investigation Case Number

The investigation number A-552-804 was inadvertently assigned to the antidumping investigation of PRCBs from Vietnam although it was already used in a prior anticircumvention proceeding on certain tissue paper from the People's Republic of China. See Certain Tissue Paper From the People's Republic of China: Affirmative Final Determination of Circumvention of the Antidumping Duty Order, 73 FR 57591 (October 3, 2008). Because case number A-552-804 has already been assigned to a different antidumping proceeding, the Department has assigned a new case number of A-552-806 to the ongoing antidumping investigation of PRCBs from Vietnam. All documents that were already submitted in the ongoing PRCBs from Vietnam antidumping investigation will have their case numbers modified to reflect the new case number (i.e., A-552-806) and no further action is required. All future documents and submissions should refer to the new case number. This notice serves solely to correct the case number as it was listed in the Initiation Notice. The Department's findings in the Initiation Notice remain unchanged.

This notice is issued and published pursuant to section 777(i) of the Tariff Act of 1930, as amended.

Dated: May 1, 2009.
John M. Andersen,
Acting Deputy Assistant Secretary for Antidumping and Countervailing Duty Operations.

[FR Doc. E9-10641 Filed 5-6-09; 8:45 am]

BILLING CODE 3510-DS-S